DEPARTMENT OF AGRICULTURE

The U.S. Codex Office

Codex Alimentarius Commission: Meeting of the Codex Committee on Fresh Fruits and Vegetables

AGENCY: U.S. Codex Office, USDA.

ACTION: Notice of public meeting and request for comments.

SUMMARY: The U.S. Codex Office is sponsoring a public meeting on Feb 5, 2025. The objective of the public meeting is to provide information and receive public comments on agenda items and draft U.S. positions to be discussed at the 22nd Session of the Codex Committee on Fresh Fruits and Vegetables (CCFFV), which will meet in Mexico City, Mexico, from February 25-March 1, 2025. The U.S. Manager for Codex Alimentarius and the Under Secretary for Trade and Foreign Agricultural Affairs recognize the importance of providing interested parties the opportunity to obtain background information on the 23rd Session of the CCFFV and to address items on the agenda.

DATES: The public meeting is scheduled for February 5, 2025, from 11 a.m.-12:30 p.m. eastern time.

ADDRESSES: The public meeting will take place via video teleconference only. Documents related to the 23rd Session of the CCFFV will be accessible via the internet at the following address: https://www.fao.org/fao-who-codexalimentarius/meetings/detail/en/?meeting=CCFFV&session=23.

Mr. Dorian LaFond, U.S. Delegate to the 23rd Session of CCFFV, invites interested U.S. parties to submit their comments electronically to the following email address: Dorian.LaFond@usda.gov.

Registration: Attendees may register to attend the public meeting at the following link: https://www.zoomgov.com/meeting/register/vJIscOihrD8uGX42lENVyIB4gIMrirpf_SE. After registering, you will receive a confirmation email containing information about joining the meeting.

For further information about the 23rd Session of the CCFFV, contact U.S. Delegate, Mr. Dorian LaFond, International Food Standards Coordinator, Fruits and Vegetables Program, Specialty Crops Division, Agricultural Marketing Service, U.S. Department of Agriculture, phone: +1 (202) 690-4944, email: Dorian.LaFond@usda.gov. For additional information regarding the public meeting, contact the U.S. Codex Office by email at: uscodex@usda.gov.

SUPPLEMENTARY INFORMATION:

Background

The Codex Alimentarius Commission was established in 1963 by two United Nations organizations, the Food and Agriculture Organization (FAO) and the World Health Organization (WHO). Through the adoption of food standards, codes of practice, and other guidelines developed by its committees, and by promoting their adoption and implementation by governments, Codex seeks to protect the health of consumers and ensure fair practices in the food trade.

The Terms of Reference of the Codex Committee on Fresh Fruits and Vegetables (CCFFV) are:

(a) To elaborate worldwide standards and codes of practice as may be appropriate for fresh fruits and vegetables

(b) to consult, as necessary, with other international organizations in the standards development to avoid duplication

The CCFFV is hosted by Mexico. The United States attends the CCFFV as a member country of Codex.

Issues To Be Discussed at the Public Meeting

The following items from the Provisional Agenda for the 23rd Session of the CCFFV will be discussed during the public meeting:

• Matters arising from the Codex Alimentarius Commission and other committees;

• Matters arising from other international organizations on the standardization of fresh fruits and vegetables;

• Draft standard for fresh dates;

• Proposed draft standard for fresh curry leaves;

• Discussion paper on the review of existing FFV standards;

• Consideration for proposals for new work;

• Other Business.

Public Meeting

At the February 5, 2025, public meeting, draft U.S. positions on the agenda items will be described and discussed, and attendees will have the opportunity to pose questions and offer comments. Written comments may be offered at the meeting or sent to Mr. Dorian LaFond, U.S. Delegate to the 23rd Session of the CCFFV, at dorian.lafond@usda.gov. Written comments should state that they relate to activities of the 23rd Session of the CCFFV.

Additional Public Notification

Public awareness of all segments of rulemaking and policy development is important. Consequently, the U.S. Codex Office will announce this Federal Register publication online through the USDA Codex web page located at: https://www.usda.gov/codex, a link that also offers an email subscription service providing access to information related to Codex. Customers can add or delete their subscriptions themselves and have the option to password-protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at https://www.usda.gov/oascr/filing-program-discrimination-complaint-usda-customer, or write a letter signed by you or your authorized representative. Send your completed complaint form or letter to USDA by mail, fax, or email. Mail: U.S. Department of Agriculture, Director, Office of Adjudication, 1400 Independence Avenue SW, Washington, DC 20250-9410; Fax: (202) 690-7442; Email: program.intake@usda.gov. Persons with disabilities who require alternative means for communication (Braille, large print, audiotape, etc.) should contact USDA's TARGET Center at (202) 720-2600 (voice and TDD).

Done at Washington, DC, on January 13, 2025.
Julie A. Chao,
Deputy U.S. Manager for Codex Alimentarius.

[FR Doc. 2025-01035 Filed 1-15-25; 8:45 am]

BILLING CODE 3420-3F-P